DEPARTMENT OF TRANSPORTATION

Federal Transit Administration

Over-the-Road Bus Accessibility Program Announcement of Project Selection

AGENCY: Federal Transit Administration, DOT.

ACTION: Notice.

SUMMARY: The U.S. Department of Transportation (DOT) Federal Transit Administration (FTA) announces the selection of projects to be funded under the Over-the-road Bus (OTRB) Accessibility Program, authorized by Section 3038 of the Transportation Equity Act for the 21st Century (TEA-21). The OTRB Accessibility Program makes funds available to private operators of over-the-road buses to help finance the incremental capital and training costs of complying with DOT's over-the-road bus accessibility rule, published in a Federal Register Notice on September 24, 1998.

FOR FURTHER INFORMATION CONTACT: The appropriate FTA Regional Administrator for grant-specific issues; or Sue Masselink, Office of Program Management, 202-366-2053 for general information about the OTRB Accessibility Program.

SUPPLEMENTARY INFORMATION:

Projects Selected for Fiscal Year 2000 Funding

In fiscal year 2000, a total of $7.6 million was requested by 57 applicants: $5.9 million was requested for intercity fixed-route providers, and $1.7 million was requested for other providers such as charter, tour, and commuter service providers. A total of $3.7 million was available for providers of over-the-road services: $2 million at 90 percent Federal share for providers of intercity fixed-route services and $1.7 million at 50 percent Federal share for providers of other types of services, such as charter, tour, and commuter. See section 3038 of TEA-21, Pub. L. 105-178 and section 342 of the Department of Transportation and Related Agencies Appropriation Act 2000, Pub. L. 106-69. Project selections were made on a discretionary basis, based on each applicant's responsiveness to statutory project selection criteria, fleet size, and level of funding received last year. Because of the high demand for the funds available to providers of intercity fixed-route service, most applicants received less funding than they requested, although with the exception of some of the applicants that received funding last year, all qualified applicants received some funding. Each of the following 47 awardees, as well as the 10 applicants who were not selected for funding, will receive a letter which explains how funding decisions were made.

Operator | Award amounts: Intercity fixed-route | Award amounts: Other | Award amounts: Total | Award amounts: Total
REGION I
The Arrow Line, Inc, East Hartford, CT | $123,400 | $0 | $123,400
Bonanza Bus Lines, Providence, RI | 68,900 | 0 | 68,900
Concord Trailways, Concord, NH | 31,300 | 0 | 31,300
Peter Pan Bus Lines, Springfield, MA | 129,700 | 0 | 129,700
Edwin J. Pina, Sr. and Sons, Inc., Marstons Mill, PA | 0 | 14,250 | 14,250 | VIP Tour and Charter Bus Co., Portland, ME | 0 | 72,625 | 72,625
REGION II
Travelways, Inc., Howell, NJ | 71,600 | 132,500 | 204,100
Birnie Bus Service, Rome, NY | 30,200 | 0 | 30,200
Shortline Hudson, Mahwah, NJ | 6,100 | 0 | 6,100
Lakeland Bus Lines, Dover, NJ | 0 | 108,000 | 108,000
REGION III
Fullington Auto Bus Co., Clearfield, PA | 30,910 | 0 | 30,910
Trans-Bridge Lines, Bethlehem, PA | 31,720 | 70,412 | 102,132
Motor Transportation Company, Inc., Hazelton, PA | 0 | 37,500 | 37,500
Krapf's Coaches, Westchester, PA | 0 | 26,230 | 26,230
Keller Bus Service, Waldorf, MD | 0 | 42,500 | 42,500
Butler Motor Company, Pittsburg, PA | 0 | 36,000 | 36,000
Susquehanna Transit Company, Avis, PA | 30,960 | 15,250 | 46,210
Werner Coach, Phoenixville, PA | 32,800 | 18,210 | 51,010
Wisconsin Coach, Pittsburgh, PA | 0 | 42,500 | 42,500
REGION IV
P&S Transportation/Coach USA, Orlando, FL | 0 | 59,957 | 59,957
Capital Motors/Colonial Trailways, Montgomery, AL | 23,800 | 12,500 | 36,300
Colonial Trailways, Inc., Mobile, Alabama | 23,400 | 12,500 | 35,900
Good Times Tours, Pensacola, FL | 0 | 15,140 | 15,140
A.A. Crow Corp./Ingram Bus Lines, Tallassee, AL | 0 | 15,000 | 15,000
Busco, Inc., Birmingham, AL | 0 | 15,000 | 15,000
REGION V
Eclipse Charter and Tours, Gary, IN | 0 | 21,500 | 21,500
Peoria Charter Coach Co., Peoria, IL | 3,000 | 0 | 3,000
Mid-America, Elk Grove Village, IL | 0 | 79,280 | 79,280
Bosch Bus Co., Ft. Wayne, IN | 0 | 25,872 | 25,872
Lakefront Lines, Brook Park, OH | 31,460 | 0 | 31,460
Lamers Bus Company, Green Bay, WI | 24,265 | 16,250 | 40,515
VanGalder Bus Company, Janesville, WI | 0 | 107,500 | 107,500
REGION VI
Americanos USA, El Paso, TX | 94,600 | 0 | 94,600
Autobus Amigos, LLC, Brownsville, TX | 31,500 | 0 | 31,500
Greyhound Lines, Inc., Dallas, TX | 1,000,000 | 0 | 1,000,000
REGION VII
Northwest Iowa Transportation, Inc., Ft. Dodge, IA | 0 | 10,000 | 10,000
REGION VIII
Powder River Transportation Svcs., Inc., Gillette, WY | 19,965 | 9,983 | 29,948
Rimrock Stages, Billings, MT | 29,200 | 12,500 | 41,700
REGION IX
Pacific Coachways Charter Svcs., Inc., Garden Grove, CA | 0 | 29,750 | 29,750
Golden State Coaches/Frontier Tours, Carson City, NV | 0 | 361,122 | 361,122
Arrow Stage Lines, Phoenix, AZ | 0 | 105,000 | 105,000
Gonzales Inc., Los Angeles, CA | 126,100 | 0 | 126,100
Navi-Hopi Tours, Flagstaff, AZ | 0 | 30,450 | 30,450
VIA Adventures, Tempe, AZ | 15,120 | 11,750 | 26,870
REGION X
Wheatland Express, Pullman, WA | 0 | 12,735 | 12,735
Northwestern Stage, Spokane, WA | 0 | 14,975 | 14,975
Commuter Bus, Caldwell, ID | 0 | 12,435 | 12,435
TOTAL | *$2,010,000 | $1,607,176 | $3,617,176
* $10,000 was carried over from unobligated 1999 funds.

Eligible project costs may be incurred by awardees prior to final grant approval. The incremental capital cost for adding wheelchair lift equipment to any new vehicles delivered on or after June 9, 1998, the effective date of TEA-21, is eligible for funding under the OTRB Accessibility Program.

Applicants selected for funding may be contacted by FTA regional offices if any additional information is needed before grants are made. The grant applications will be sent to the U.S. Department of Labor (DOL) for certification under the labor protection requirements pursuant to 49 U.S.C. 5333(b). After referring applications to affected employees represented by a labor organization, DOL will issue a certification to FTA. The terms and conditions of the certification will be incorporated in the FTA grant agreement under the new guidelines replacing those in 29 CFR part 215. Please see Amendment to Section 5333(b), Guidelines to Carry Out New Programs Authorized by the Transportation Equity Act for the 21st Century (TEA-21); Final Rule (64 FR 40990, July 28, 1999).

Issued on September 12, 2000.
Nuria I. Fernandez,
Acting Administrator.

[FR Doc. 00-23817 Filed 9-15-00; 8:45 am]

BILLING CODE 4910-57-P